DEPARTMENT OF THE INTERIOR

Office of Natural Resources Revenue

30 CFR Parts 1210, 1218, and 1243

[Docket No. ONRR-2011-0023; DS63644000 DRT000000.CH7000 223D1113RT]

RIN 1012-AA28

Mailing and Email Address Amendments

AGENCY: Office of Natural Resources Revenue (“ONRR”), Interior.

ACTION: Final rule.

SUMMARY: ONRR is publishing this final rule to update room number, mailstop, and other information for filing certain forms by mail, courier, or overnight delivery. It also provides email addresses for filing certain forms electronically.

DATES: This rule is effective May 13, 2022.

FOR FURTHER INFORMATION CONTACT: For questions on procedural and technical issues, contact Ginger J. Hensley, Regulatory Specialist, by telephone at (303) 231-3171 or email at ONRR_RegulationsMailbox@onrr.gov.

SUPPLEMENTARY INFORMATION:

I. Explanation of Amendments

II. Procedural Matters

I. Explanation of Amendments

ONRR regulations at 30 CFR parts 1210, 1218, and 1243 authorize various forms to be filed with ONRR related to Federal and Indian royalty reporting and payment and appeal bonding by mail, courier, or overnight delivery. As further described in the amendatory instructions, this final rule amends these parts to update room number, mailstop, or other information for these delivery methods.

Title 30 CFR 1210.151 authorizes form ONRR-4393, Request to Exceed Regulatory Allowance Limitation, to be filed with ONRR by mail, courier, overnight delivery, or email, but it does not provide an email address for doing so. This final rule amends this section to specify royaltyvaluation@onrr.gov as the email address for filing form ONRR-4393 with ONRR by email.

Title 30 CFR 1210.151, 1210.152, and 1210.153 authorize various forms to be filed with ONRR related to royalty reporting for Indian leases by mail, courier, or overnight delivery. This final rule amends these sections to also authorize the filing of these forms with ONRR electronically by email to onrrindianforms@onrr.gov.

This is a final rulemaking with no request for public comment. This rulemaking is exempt from the notice and comment requirements of 5 U.S.C. 553(b) because it relates to a rule “of agency organization, procedure, or practice” under 5 U.S.C. 553(b)(A). Furthermore, 5 U.S.C. 553(b)(B) provides an exception to the public comment requirement when an agency for good cause finds that “notice and public procedure thereon are impracticable, unnecessary, or contrary to the public interest.” ONRR finds that public comment is not necessary because this is a technical rule to amend ONRR's mailing and email addresses.

II. Procedural Matters

A. Regulatory Planning and Review (E.O. 12866 and E.O. 13563)

E.O. 12866 provides that the Office of Information and Regulatory Affairs (“OIRA”) will review all significant rules. OIRA has determined that this rule is not significant.

E.O. 13563 reaffirms the principles of E.O. 12866 while calling for improvements in the nation's regulatory system to promote predictability and reduce uncertainty, and to use the most innovative and least burdensome tools for achieving regulatory ends. Furthermore, E.O. 13563 directs agencies to consider regulatory approaches that reduce burdens and maintain flexibility and freedom of choice for the public where these approaches are relevant, feasible, and consistent with regulatory objectives. E.O. 13563 also emphasizes that regulations must be based on the best available science and that the rulemaking process must allow for public participation and an open exchange of ideas. ONRR developed this rule in a manner consistent with these requirements.

B. Regulatory Flexibility Act

The Regulatory Flexibility Act, 5 U.S.C. 601 et seq., generally requires Federal agencies to prepare a regulatory flexibility analysis for rules that are subject to the notice-and-comment rulemaking requirements under the APA if the rule would have a significant economic impact on a substantial number of small entities. See 5 U.S.C. 601-612. The Department of the Interior certifies that this final rule will not have a significant economic effect on a substantial number of small entities. This final rule will impact large and small entities but will not have a significant economic effect on either because it is a technical rule to update addresses and to provide email addresses that a person may elect to use to submit certain documents electronically.

C. Small Business Regulatory Enforcement Fairness Act

This final rule is not a major rule under the Small Business Regulatory Enforcement Fairness Act (5 U.S.C. 804(2)). This final rule:

(1) Does not have an annual effect on the economy of $100 million or more.

(2) Will not cause a major increase in costs or prices for consumers, individual industries, Federal, State, or local government agencies, or geographic regions.

(3) Does not have significant adverse effects on competition, employment, investment, productivity, innovation, or the ability of U.S.-based enterprises to compete with foreign-based enterprises.

D. Unfunded Mandates Reform Act

This final rule does not impose an unfunded mandate on State, local, or Tribal governments, or the private sector of more than $100 million per year. This final rule does not have a significant or unique effect on State, local, or Tribal governments, or the private sector. Therefore, ONRR is not required to provide a statement containing the information required by the Unfunded Mandates Reform Act (2 U.S.C. 1501 et seq.).

E. Takings (E.O. 12630)

Under the criteria in E.O. 12630, this final rule does not have any significant takings implications. This final rule applies to Outer Continental Shelf and Federal and Indian onshore leases. It does not apply to private property. A takings implication assessment is not required.

F. Federalism (E.O. 13132)

Under the criteria in section 1 of E.O. 13132, this final rule does not have sufficient federalism implications that warrant the preparation of a federalism summary impact statement. This is a technical rule to amend ONRR's mailing and email addresses. A federalism summary impact statement is not required.

G. Civil Justice Reform (E.O. 12988)

This final rule complies with the requirements of E.O. 12988. Specifically, this rule:

1. Meets the criteria of section 3(a) requiring that all regulations be reviewed to eliminate errors and ambiguity and be written to minimize litigation; and

2. Meets the criteria of section 3(b)(2) requiring that all regulations be written in clear language and contain clear legal standards.

H. Consultation With Indian Tribes (E.O. 13175)

The Department of the Interior strives to strengthen its government-to-government relationship with Indian Tribes through a commitment to consultation with Indian Tribes and recognition of their right to self-governance and Tribal sovereignty. ONRR has evaluated this rule under the Department's consultation policy and under the criteria in E.O. 13175 and has determined that it has no substantial direct effect on federally recognized Indian Tribes and that consultation under the Department's Tribal consultation policy is not required.

I. Paperwork Reduction Act

This final rule does not contain information collection requirements. A submission to the Office of Management and Budget under the Paperwork Reduction Act (44 U.S.C. 3501 et seq.) is not required.

J. National Environmental Policy Act

This rule does not constitute a major Federal action significantly affecting the quality of the human environment. A detailed statement under the National Environmental Policy Act of 1969 (“NEPA”) is not required because this rule is categorically excluded under: “Policies, directives, regulations, and guidelines: that are of an administrative, financial, legal, technical, or procedural nature.” See 43 CFR 46.210(i) and DOI Departmental Manual, part 516, section 15.4.D. ONRR has determined that this rule is not involved in any of the extraordinary circumstances under 43 CFR 46.215 that would require further analysis under NEPA. The procedural changes resulting from these amendments have no consequences with respect to the physical environment. This rule will not alter in any material way natural resource exploration, production, or transportation.

K. Effects on the Energy Supply (E.O. 13211)

This final rule is not a significant energy action under the definition in E.O. 13211. A Statement of Energy Effects is not required.

L. Clarity of This Regulation

ONRR is required by E.O.s 12866 (section 1 (b)(12)), 12988 (section 3(b)(1)(B)), and 13563 (section 1(a)), and by the Presidential Memorandum of June 1, 1998, to write all rules in plain language. This means that each rule ONRR publishes must use:

(1) Logical organization.

(2) Active voice to address readers directly.

(3) Clear language rather than jargon.

(4) Short sections and sentences.

(5) Lists and tables wherever possible.

If you feel that ONRR has not met these requirements, send your remarks to ONRR_RegulationsMailbox@onrr.gov. To better help ONRR revise the rule, your remarks should be as specific as possible. For example, you should tell ONRR the numbers of the sections or paragraphs that are not clearly written, which sections or sentences are too long, the sections where you feel lists or tables would be useful, etc.

List of Subjects

30 CFR Part 1210

Continental shelf, Geothermal energy, Government contracts, Indians—lands, Mineral royalties, Oil and gas exploration, Public lands—mineral resources, Reporting and recordkeeping requirements, Sulfur.

30 CFR Part 1218

Continental shelf, Electronic funds transfers, Indian lands, Mineral royalties, Oil and gas exploration, Public lands mineral resources, Reporting and recordkeeping requirements.

30 CFR Part 1243

Administrative practice and procedure, Government contracts, Mineral royalties, Public lands—minerals resources.

Kimbra G. Davis,
Director for the Office of Natural Resources Revenue.

Authority and Issuance

For the reasons discussed in the preamble, under the authority provided by Reorganization Plan No. 3 of 1950 (64 Stat. 1262) and Secretarial Order No. 3299, ONRR amends parts 1210, 1218, and 1243 of title 30 CFR, chapter XII as follows:

PART 1210—FORMS AND REPORTS

1. The authority citation for 30 CFR part 1210 continues to read as follows:

Authority: 5 U.S.C. 301 et seq.; 25 U.S.C. 396, 2107; 30 U.S.C. 189, 190, 359, 1023, 1751(a); 31 U.S.C. 3716, 9701; 43 U.S.C. 1334, 1801 et seq.; and 44 U.S.C. 3506(a).

§§ 1210.55, 1210.105, 1210.151, 1210.152, 1210.153, 1210.154, 1210.155, 1210.156, 1210.157, 1210.158, 1210.201, 1210.205 [Amended]

2. In the following table, amend the sections indicated in the left column by removing the text in the center column and adding in its place the text in the right column:

Amend | By removing the reference to: | And adding in its place:
§ 1210.55(b)(2) | Room A-614 | Room A322.
§ 1210.105(b)(2) | Room A-614 | Room A322.
§ 1210.151(c)(2) | P.O. Box 25165, Denver, CO 80225-0165 | P.O. Box 25165, MS 643000B, Denver, CO 80225-0165.
§ 1210.151(c)(3) | Room A-614 | Room A322.
§ 1210.152(c)(1) | P.O. Box 25165, Denver, CO 80225-0165 | P.O. Box 25165, MS 634000B, Denver, CO 80225-0165.
§ 1210.152(c)(2) | Room A-614 | Room A322.
§ 1210.153(c)(1) | P.O. Box 25165, Denver, CO 80225-0165 | P.O. Box 25165, MS 634000B, Denver, CO 80225-0165.
§ 1210.153(c)(2) | Room A-614 | Room A322.
§ 1210.154(c)(1) | P.O. Box 25165, Denver, CO 80225-0165 | P.O. Box 25165, MS 63240B, Denver, CO 80225-0165.
§ 1210.154(c)(2) | Room A-614, MS 392B2 | Room A322.
§ 1210.156(c)(1) | P.O. Box 25165, Denver, CO 80225-0165 | P.O. Box 25165, MS 633000B, Denver, CO 80225-0165.
§ 1210.156(c)(2) | Room A-614, MS 382B2 | Room A322.
§ 1210.157(c)(1) | P.O. Box 25165, Denver, CO 80225-0165 | P.O. Box 25165, MS 63230B, Denver, CO 80225-0165.
§ 1210.157(c)(2) | Room A-614, MS 64220 | Room A322.
§ 1210.158(c)(1) | P.O. Box 25165, Denver, CO 80225-0165 | P.O. Box 25165, MS 633000B, Denver, CO 80225-0165.
§ 1210.158(c)(2) | Room A-614 | Room A322.
§ 1210.201(c)(3)(i) | P.O. Box 25627, Denver, CO 80225-0627 | P.O. Box 25165, MS 633000B, Denver, CO 80225-0165.
§ 1210.201(c)(3)(ii) | Room A-614 | Room A322.
§ 1210.202(c)(2)(i) | Solid Minerals and Geothermal (A&C), MS 62530B., Denver, Colorado 80225-0165 | P.O. Box 25165, MS 633000B, Denver, CO 80225-0165.
§ 1210.202(c)(2)(ii) | Solid Minerals and Geothermal (A&C), MS 62530B, Room A-614, Bldg 85, DFC, Denver Colorado 80225 | MS 633000B, Room A322, Bldg. 85, DFC, Denver, Colorado 80225-0165.
§ 1210.205(c)(1) | P.O. Box 25165, Denver, CO 80225-0165 | P.O. Box 25165, MS 633000B, Denver, CO 80225-0165.
§ 1210.205(c)(2) | Room A-614 | Room A322.

3. Amend § 1210.151 by revising paragraph (c)(1) to read as follows:

§ 1210.151 What reports must I submit to claim an excess allowance?

* * * * *

(c) * * *

(1) Complete and submit the form electronically as an email attachment to royaltyvaluation@onrr.gov;

* * * * *

4. Amend § 1210.152 by:

a. Removing “or” at the end of paragraph (c)(1);

b. Removing the period at the end of paragraph (c)(2) and adding “; or” in its place; and

c. Adding paragraph (c)(3).

The addition reads as follows:

§ 1210.152 What reports must I submit to claim allowances on an Indian lease?

* * * * *

(c) * * *

(3) Complete and submit the form electronically as an email attachment to onrrindianforms@onrr.gov.

5. Amend § 1210.153 by:

a. Removing “or” at the end of paragraph (c)(1);

b. Removing the period at the end of paragraph (c)(2) and adding “; or” in its place; and

c. Adding paragraph (c)(3).

The addition reads as follows:

§ 1210.153 What reports must I submit for Indian gas valuation purposes?

* * * * *

(c) * * *

(3) Complete and submit the form electronically as an email attachment to onrrindianforms@onrr.gov.

6. Amend § 1210.205 by:

a. Removing the “or” at the end of paragraph (c)(1);

b. Removing the period at the end of paragraph (c)(2) and adding “; or” in its place; and

c. Adding paragraph (c)(3).

The addition reads as follows:

§ 1210.205 What reports must I submit to claim allowances on Indian coal leases?

* * * * *

(c) * * *

(3) Complete and submit the form electronically as an email attachment to onrrindianforms@onrr.gov.

PART 1218—COLLECTION OF ROYALTIES, RENTALS, BONUSES, AND OTHER MONEYS DUE THE FEDERAL GOVERNMENT

7. The authority citation for 30 CFR part 1218 continues to read as follows:

Authority: 5 U.S.C. 301 et seq.; 25 U.S.C. 396 et seq., 396a et seq., 2101 et seq.; 30 U.S.C. 181 et seq., 351 et seq., 1001 et seq., 1701 et seq.; 31 U.S.C. 3335, 3711, 3716-18, 3720A, 9701; 43 U.S.C. 1301 et seq., 1331 et seq., and 1801 et seq.

§ 1218.51 [Amended]

8. Amend § 1218.51 in paragraph (e) by removing “Room A-614” and adding “Room A322” in its place.

PART 1243—SUSPENSIONS, PENDING APPEAL AND BONDING—OFFICE OF NATURAL RESOURCES REVENUE

9. The authority citation for 30 CFR part 1243 continues to read as follows:

Authority: 5 U.S.C. 301 et seq.; 25 U.S.C. 396 et seq., 396a et seq., 2101 et seq.; 30 U.S.C. 181 et seq., 351 et seq., 1001 et seq., 1701 et seq.; 31 U.S.C. 9701; 43 U.S.C. 1301 et seq., 1331 et seq., and 1801 et seq.

§ 1243.200 [Amended]

10. Amend § 1243.200 by:

a. In paragraph (a)(1), removing “MS 64200B” and adding “MS 642000B” in its place; and

b. In paragraph (a)(2), removing “MS 64200B, Document Processing Team, Room A-614” and adding “MS 642000B, Room A322” in its place.

[FR Doc. 2022-06639 Filed 4-12-22; 8:45 am]

BILLING CODE 4335-30-P